DEPARTMENT OF THE INTERIOR

National Park Service

Cedar Creek and Belle Grove National Historical Park Advisory Commission; Notice of Meetings

AGENCY: National Park Service, Interior.

ACTION: Notice.

SUMMARY: Notice is hereby given in accordance with the Federal Advisory Committee Act that meetings of the Cedar Creek and Belle Grove National Historical Park Advisory Commission will be held to discuss the development of the park's general management plan.

DATES: September 15, 2005, at the Strasburg Town Hall Council Chambers, 143 East King St., Strasburg, VA; November 17, 2005, at the Middletown Town Hall Council Chambers, 7875 Church St., Middletown, VA; January 19, 2006, at the Strasburg Town Hall; March 16, 2006, at the Middletown Town Hall; May 18, 2006, at the Strasburg Town Hall; and July 20, 2006, at the Middletown Town Hall. All meetings will convene at 9 a.m.

All meetings are open to the public.

FOR FURTHER INFORMATION CONTACT: Diann Jacox, Superintendent, Cedar Creek and Belle Grove National Historical Park, (540) 868-9176.

SUPPLEMENTARY INFORMATION: Topics to be discussed at the meetings include: General management plan scoping issues, public involvement strategy, commission by-laws, election of a commission chair, planning process and schedule, commission sub-committees, park boundaries, and land protection planning.

Dated: August 5, 2005.
Diann Jacox,
Superintendent, Cedar Creek and Belle Grove National Historical Park.

[FR Doc. 05-16084 Filed 8-12-05; 8:45 am]

BILLING CODE 4312-52-M